DEPARTMENT OF ENERGY

Bonneville Power Administration

Electrical Interconnection of the Goldendale Energy Project

AGENCY: Bonneville Power Administration (BPA), Department of Energy (DOE).

ACTION: Notice of Availability of Record of Decision (ROD).

SUMMARY: This notice announces the availability of the ROD to integrate power from the Goldendale Energy Project (GEP) into the Federal Columbia River Transmission System, based on input from the public process and information in the BPA Business Plan Environmental Impact Statement (DOE/EIS-0183) and a Supplement Analysis (DOE/EIS-0183/SA-03). BPA has decided to offer a contract to the project developer, Goldendale Energy, Inc., providing for integration of GEP's power at BPA's Harvalum Substation and delivery to the wholesale power market.

ADDRESSES: Copies of the ROD, EIS, and SA may be obtained by calling BPA's toll-free document request line: 1-800-622-4520.

FOR FURTHER INFORMATION CONTACT: Thomas C. McKinney, KEC-4, Bonneville Power Administration, P.O. Box 3621, Portland, Oregon, 97208-3621, telephone number 503-230-4749; fax number 503-230-5699; e-mail tcmckinney@bpa.gov.

Issued in Portland, Oregon, on March 20, 2001.
Stephen J. Wright,
Acting Administrator and Chief Executive Officer.

[FR Doc. 01-8004 Filed 3-30-01; 8:45 am]

BILLING CODE 6450-01-P